DEPARTMENT OF ENERGY

Federal Energy Regulatory Commission

[Docket No. CP18-6-000]

RH energytrans, LLC; Notice of Request for Extension of Time

Take notice that on October 19, 2020, RH energytrans, LLC (RH) requested that the Federal Energy Regulatory Commission (Commission) grant an extension of time, until December 7, 2022, to complete construction of, and place into service, its Meadville and County Line compressor stations in Crawford and Erie Counties, Pennsylvania as authorized in the December 7, 2018 Order Issuing Certificate (Certificate Order).¹ Ordering Paragraph B(1) of the Certificate Order required RH to complete the construction of the proposed Risberg Line Project facilities ² and make them available for service within two years from issuance, or by December 7, 2020.³

¹ RH energytrans, LLC, 165 FERC 61,218 (2018) (Certificate Order).

² The Risberg Line Project consists of the conversion of 31.6 miles of existing 8-inch and 12-inch natural gas gathering pipeline to transmission service, construction of 28.3 miles of new 12-inch pipeline, conversion of the existing Countyline Compressor station from gathering to transmission service, and construction of a new compressor station at Meadville, PA.

³ Id. at ordering para. (B)(1).

On November 22, 2019, the Commission granted RH partial authorization to place into service the pipeline facilities associated with the Risberg Line Project,⁴ and subsequently, on December 1, 2019, RH placed those facilities into service.⁵ RH states that it has experienced construction delays due to winter weather, the dissolution of one of its pipeline contractors, and delays resulting from COVID-19 pandemic restrictions. As a result, RH now requests an additional two years, or until December 7, 2022, to complete the authorized construction at the Meadville and County Line compressor stations and make them available for service.

⁴ RH energytrans, LLC, Docket No. CP18-6-000, Partial Authorization to Commence Service (November 22, 2019).

⁵ The only authorized facilities not placed into service at that time were the two compressor stations, and the approval was conditioned on RH's commitment to finalize restoration of the disturbed right-of -way in the spring/summer of 2020.

This notice establishes a 15-calendar day intervention and comment period deadline. Any person wishing to comment on RH's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).⁶

⁶ Only motions to intervene from entities that were party to the underlying proceeding will be accepted. Algonquin Gas Transmission, LLC, 170 FERC 61,144, at P 39 (2020).

As a matter of practice, the Commission itself generally acts on requests for extensions of time to complete construction for Natural Gas Act facilities when such requests are contested before order issuance. For those extension requests that are contested,⁷ the Commission will aim to issue an order acting on the request within 45 days.⁸ The Commission will address all arguments relating to whether the applicant has demonstrated there is good cause to grant the extension.⁹ The Commission will not consider arguments that re-litigate the issuance of the Certificate Order, including whether the Commission properly found the project to be in the public convenience and necessity and whether the Commission's environmental analysis for the certificate complied with the National Environmental Policy Act.¹⁰ At the time a pipeline requests an extension of time, orders on certificates of public convenience and necessity are final and the Commission will not re-litigate their issuance.¹¹ The OEP Director, or his or her designee, will act on those extension requests that are uncontested.

⁷ Contested proceedings are those where an intervenor disputes any material issue of the filing. 18 CFR 385.2201(c)(1) (2020).

⁸ Algonquin Gas Transmission, LLC, 170 FERC 61,144, at P 40 (2020).

⁹ Id. P 40.

¹⁰ Similarly, the Commission will not re-litigate the issuance of an NGA section 3 authorization, including whether a proposed project is not inconsistent with the public interest and whether the Commission's environmental analysis for the permit order complied with NEPA.

¹¹ Algonquin Gas Transmission, LLC, 170 FERC 61,144, at P 40 (2020).

In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning COVID-19, issued by the President on March 13, 2020. For assistance, contact FERC at FERCOnlineSupport@ferc.gov or call toll-free, (886) 208-3676 or TYY, (202) 502-8659.

The Commission strongly encourages electronic filings of comments, protests and interventions in lieu of paper using the eFile link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on November 6, 2020.

Dated: October 22, 2020.
Nathaniel J. Davis, Sr.,
Deputy Secretary.

[FR Doc. 2020-23865 Filed 10-27-20; 8:45 am]

BILLING CODE 6717-01-P